DEPARTMENT OF ENERGY

Federal Energy Regulatory Commission

Combined Notice of Filings

Take notice that the Commission has received the following Natural Gas Pipeline Rate and Refund Report filings:

Filings Instituting Proceedings

Docket Numbers: RP25-987-000.

Applicants: Northern Natural Gas Company.

Description: § 4(d) Rate Filing: 20250630 Negotiated Rate to be effective 7/1/2025.

Filed Date: 6/30/25.

Accession Number: 20250630-5140.

Comment Date: 5 p.m. ET 7/14/25.

Docket Numbers: RP25-988-000.

Applicants: Midship Pipeline Company, LLC.

Description: § 4(d) Rate Filing: Midship Pipeline Non-Conforming Contract Agreements Filing to be effective 7/1/2025.

Filed Date: 6/30/25.

Accession Number: 20250630-5261.

Comment Date: 5 p.m. ET 7/14/25.

Docket Numbers: RP25-989-000.

Applicants: Northern Natural Gas Company.

Description: § 4(d) Rate Filing: 20250701 Section 4 Rate Case Part 1 of 2 to be effective 8/1/2025.

Filed Date: 7/1/25.

Accession Number: 20250701-5089.

Comment Date: 5 p.m. ET 7/14/25.

Docket Numbers: RP25-990-000.

Applicants: Rover Pipeline LLC.

Description: § 4(d) Rate Filing: Summary of Negotiated Rate Capacity Release Agreements 7-1-2025 to be effective 7/1/2025.

Filed Date: 7/1/25.

Accession Number: 20250701-5104.

Comment Date: 5 p.m. ET 7/14/25.

Docket Numbers: RP25-991-000.

Applicants: MIGC LLC.

Description: § 4(d) Rate Filing: 2025 Annual Fuel Filing to be effective 8/1/2025.

Filed Date: 7/1/25.

Accession Number: 20250701-5116.

Comment Date: 5 p.m. ET 7/14/25.

Docket Numbers: RP25-992-000.

Applicants: Algonquin Gas Transmission, LLC.

Description: § 4(d) Rate Filing: Negotiated Rates—Various Releases eff 7-1-2025 to be effective 7/1/2025.

Filed Date: 7/1/25.

Accession Number: 20250701-5121.

Comment Date: 5 p.m. ET 7/14/25.

Docket Numbers: RP25-993-000.

Applicants: Cimarron River Pipeline, LLC.

Description: Tariff Amendment: Cancel Tariff (effective 8-1-25) to be effective 8/1/2025.

Filed Date: 7/1/25.

Accession Number: 20250701-5169.

Comment Date: 5 p.m. ET 7/14/25.

Docket Numbers: RP25-994-000.

Applicants: Gulf South Pipeline Company, LLC.

Description: § 4(d) Rate Filing: Remove Expired Agreements eff 7-1-2025 to be effective 7/1/2025.

Filed Date: 7/1/25.

Accession Number: 20250701-5186.

Comment Date: 5 p.m. ET 7/14/25.

Docket Numbers: RP25-995-000.

Applicants: West Texas Gas Utility, LLC.

Description: Annual Purchased Gas Cost Reconciliation Report of West Texas Gas Utility, LLC.

Filed Date: 7/1/25.

Accession Number: 20250701-5204.

Comment Date: 5 p.m. ET 7/14/25.

Docket Numbers: RP25-996-000.

Applicants: Texas Eastern Transmission, LP.

Description: § 4(d) Rate Filing: Negotiated Rates—Con Ed 910950 Releases eff 7-1-2025 to be effective 7/1/2025.

Filed Date: 7/1/25.

Accession Number: 20250701-5209.

Comment Date: 5 p.m. ET 7/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-699-001.

Applicants: Columbia Gulf Transmission, LLC.

Description: Compliance filing: Settlement Compliance—Tariff Implementation RP24-408 et. al. to be effective 7/1/2025.

Filed Date: 7/1/25.

Accession Number: 20250701-5105.

Comment Date: 5 p.m. ET 7/14/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: July 1, 2025.
Carlos D. Clay,
Deputy Secretary.

[FR Doc. 2025-12543 Filed 7-3-25; 8:45 am]

BILLING CODE 6717-01-P